DEPARTMENT OF LABOR

Employment and Training Administration

[TA-W-72,493]

Ananke, Inc., Providence, RI; Notice of Negative Determination on Reconsideration

On December 1, 2010, the Department of Labor issued an Affirmative Determination Regarding Application for Reconsideration for the workers and former workers of Ananke, Inc., Rhode Island (subject firm). The Department's Notice was published in the Federal Register on December 13, 2010 (75 FR 77664). The workers at the subject firm supplied on-site application packaging services to a financial services firm located in Boston, Massachusetts. Therefore, the worker group includes workers who report to the subject firm but are located in Massachusetts; however, the worker group does not include any on-site leased or temporary workers.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial negative determination was based on the findings that neither the subject firm nor a declining customer imported services like or directly competitive with the application packaging services supplied by the subject workers; that the subject firm did not shift to/acquire from a foreign country the supply of services like or directly competitive with the application packaging services supplied by the subject workers; and that workers of the subject firm are not adversely affected secondary workers.

The request for reconsideration states that “Ananke Inc. performed application packaging services for John Hancock * * * In September 2009, John Hancock replaced * * * Ananke Inc. with * * * Cognizant Technology Solutions (an offshoring/outsourcing company)” and included support documentation.

Information obtained during the reconsideration investigation confirmed that, during the relevant period, neither the subject firm nor a client firm shifted to/acquired from a foreign country the supply of services like or directly competitive with the application packaging services supplied by the workers. Rather, the shift in the supply of services that is alleged by the petitioner is related to services that are neither like nor directly competitive with those supplied by the subject workers.

Conclusion

After reconsideration, I affirm the original notice of negative determination of eligibility to apply for worker adjustment assistance for workers and former workers of Ananke, Inc., Rhode Island.

Signed in Washington, DC, on this 4th day of March 2011.
Del Min Amy Chen,
Certifying Officer, Office of Trade Adjustment Assistance.

[FR Doc. 2011-6194 Filed 3-16-11; 8:45 am]

BILLING CODE 4510-FN-P